DEPARTMENT OF LABOR

Occupational Safety and Health Administration

[Docket No. OSHA-2012-0019]

National Advisory Committee on Occupational Safety and Health (NACOSH)

AGENCY: Occupational Safety and Health Administration (OSHA), Labor.

ACTION: Announcement of meetings of the National Advisory Committee on Occupational Safety and Health (NACOSH) and a NACOSH Work Group.

SUMMARY: NACOSH will meet November 15, 2012, in Washington, DC. In conjunction with the committee meeting, the NACOSH Effectiveness Measures Work Group will meet on November 14, 2012.

DATES: NACOSH meeting: NACOSH will meet from 9 a.m. to 5 p.m. on Thursday, November 15, 2012.

NACOSH Work Group meeting: The NACOSH Effectiveness Measures Work Group will meet from 1-4 p.m., Wednesday, November 14, 2012.

Submission of comments, requests to speak, speaker presentations and requests for special accommodation: You must submit (postmark, send, transmit, deliver) comments, requests to speak at the NACOSH meeting, speaker presentations, and requests for special accommodations for the NACOSH and NACOSH Work Group meetings by November 2, 2012.

ADDRESSES: NACOSH and NACOSH Work Group meetings: NACOSH and NACOSH Work Group meetings will meet in Room S-4215 A/B/C U.S. Department of Labor, 200 Constitution Avenue NW., Washington, DC 20210.

Submission of comments, requests to speak and speaker presentations: You may submit comments, requests to speak at the NACOSH meeting and speaker presentations, which you must identify by the docket number in this Federal Register notice (Docket No. OSHA-2012-0019), by one of the following methods:

Electronically: You may submit materials, including attachments, electronically at http://www.regulations.gov, the Federal eRulemaking Portal. Follow the online instructions for making submissions.

Facsimile: If your submission, including attachments, does not exceed 10 pages, you may fax it to the OSHA Docket Office at (202) 693-1648.

Mail, express delivery, messenger or courier service: You may submit your materials to the OSHA Docket Office, Docket No. OSHA-2012-0019, Room N-2625, U.S. Department of Labor, 200 Constitution Avenue NW., Washington, DC 20210; telephone (202) 693-2350 (TTY (887) 889-5627). Deliveries (hand, express mail, messenger, courier service) are accepted during the Department of Labor's and OSHA Docket Office's normal business hours, 8:15 a.m. to 4:45 p.m., e.t., weekdays.

Requests for special accommodation: Please submit requests for special accommodations for the NACOSH and NACOSH Work Group meetings to Ms. Veneta Chatmon, OSHA, Office of Communications, Room N-3647, U.S. Department of Labor, 200 Constitution Avenue NW., Washington, DC 20210; telephone (202) 693-1999; email chatmon.veneta@dol.gov.

Instructions: All submissions must include the Agency name and docket number for this Federal Register notice (Docket No. OSHA-2012-0019). Because of security-related procedures, submission by regular mail may result in significant delay in receipt. Please contact the OSHA Docket Office for information about security procedures for making submissions. For additional information about submitting comments, requests to speak and speaker presentations see the SUPPLEMENTARY INFORMATION section of this notice.

OSHA will place in the public docket comments, requests to speak and speaker presentations, including any personal information you provide, and they may be available online. Therefore, OSHA cautions individuals about submitting personal information such as Social Security numbers and birthdates.

FOR FURTHER INFORMATION CONTACT: For press inquiries: Mr. Frank Meilinger, OSHA, Office of Communications, U.S. Department of Labor, Room N-3647, 200 Constitution Avenue NW., Washington, DC 20210; telephone (202) 693-1999; email meilinger.francis2@dol.gov.

For general information: Ms. Deborah Crawford, OSHA, Directorate of Evaluation and Analysis, U.S. Department of Labor, Room N-3641, 200 Constitution Avenue NW., Washington, DC 20210; telephone (202) 693-1932; email crawford.deborah@dol.gov.

SUPPLEMENTARY INFORMATION:

NACOSH Meeting

NACOSH will meet Thursday, November 15, 2012, in Washington, DC. NACOSH meetings are open to the public.

Section 7(a) of the Occupational Safety and Health Act of 1970 (OSH Act) (29 U.S.C. 651, 656) authorizes NACOSH to advise the Secretaries of Labor and Health and Human Services on matters relating to the administration of the OSH Act. NACOSH is a continuing advisory body and operates in compliance with the OSH Act, the Federal Advisory Committee Act (5 U.S.C. App. 2), and regulations issued pursuant to those laws (29 CFR 1912a, 41 CFR Part 102-3).

The tentative agenda of the NACOSH meeting includes:

• Remarks from the Assistant Secretary of Labor for Occupational Safety and Health (OSHA);

• Remarks from the Director of the National Institute for Occupational Safety and Health (NIOSH);

• NACOSH Work Group report and discussion;

• NACOSH and NACOSH Work Group administrative business; and

• Public comments.

OSHA transcribes NACOSH meetings and prepares detailed minutes of the meetings. OSHA places the meeting transcripts and minutes in the public record of the NACOSH meeting. The public record also includes Work Group reports, speaker presentations, comments and other materials submitted to NACOSH.

NACOSH Work Group

The NACOSH Effectiveness Measures Work Group meeting on November 14, 2012, is open to the public. The purpose of the Work Group is to provide recommendations to the full NACOSH committee on approaches for measuring the effectiveness of OSHA's strategies, programs and activities. The Work Group will report to NACOSH at the November 15, 2012, meeting for discussion by the full Committee.

Public Participation

NACOSH and NACOSH Work Group meetings: NACOSH and NACOSH Work Group meetings are open to the public. Any individual attending meetings at the U.S. Department of Labor must enter the building at the Visitors' Entrance, 3rd and C Streets NW., and pass through Building Security. Attendees must have valid photo identification to enter the building. Please contact Ms. Crawford for additional information about building security measures for attending the NACOSH and NACOSH Work Group meetings.

Individuals requesting special accommodation to attend NACOSH and NACOSH Work Group meetings must contact Ms. Chatmon by November 7, 2012.

Submission of comments, requests to speak and speaker presentations: Interested persons must submit written comments, requests to speak at the NACOSH meeting and speaker presentations by November 7, 2012, using one of the methods listed in the ADDRESSES section. All submissions must include the Agency name and docket number for this Federal Register notice (Docket No. OSHA-2012-0019). OSHA will provide submissions to NACOSH members prior to the meeting.

Because of security-related procedures, submission by regular mail may result in significant delay in receipt. Please contact the OSHA Docket Office for information about security procedures for making submissions by hand delivery, express delivery, messenger or courier service.

Requests to speak must state the amount of time requested to speak, the interest the individual represents (e.g., organization name), if any, and a brief outline of the presentation. Electronic speaker presentations (e.g., PowerPoint) must be compatible with PowerPoint 2010 and other Microsoft 2010 formats. Requests to address NACSOH may be granted as at the discretion of the NACOSH chair and as time permits.

Public docket of the NACOSH and NACOSH Work Group meetings: OSHA puts comments, requests to speak and speaker presentations, including any personal information you provide, in the public record of this NACOSH meeting without change and those documents may be available online at http://www.regulations.gov. Therefore, OSHA cautions individuals about submitting certain personal information such as Social Security numbers and birthdates.

OSHA also puts the meeting transcripts and minutes, Work Group reports and other documents from the NACOSH meeting in the public record of the NACOSH meeting. Although all submissions are listed in the http://www.regulations.gov index, some documents (e.g., copy righted materials) are not publicly available to read or download through that Web page. All submissions, including copyrighted material, are available for inspection and copying in the OSHA Docket Office.

To read or download documents in the public record of the NACOSH meeting, go to Docket No. OSHA-2012-0019 at http://www.regulations.gov. Please contact the OSHA Docket Office for information about materials not available through that Web page and for assistance in using the Internet to locate submissions and other documents in the public record.

Electronic copies of this Federal Register notice are available at http://www.regulations.gov. This notice, as well as news releases and other relevant information, also is available on the OSHA Web page at http://www.osha.gov.

Authority and Signature

David Michaels, Ph.D., MPH, Assistant Secretary of Labor for Occupational Safety and Health, directed the preparation of this notice under the authority granted by Section 7 of the Occupational Safety and Health Act of 1970 (U.S.C. 656), the Federal Advisory Committee Act (5 U.S.C. App. 2); 29 CFR Part 1912a; 41 CFR Part 102-3; and Secretary of Labor's Order No. 1-2012 (77 FR 3912 1/25/2012).

Signed at Washington, DC, on October 17, 2012.
David Michaels,
Assistant Secretary of Labor for Occupational Safety and Health.

[FR Doc. 2012-25938 Filed 10-19-12; 8:45 am]

BILLING CODE 4510-26-P